DEPARTMENT OF EDUCATION

Notice of Proposed Information Collection Requests

AGENCY: Department of Education.

SUMMARY: The Director, Regulatory Information Management Services, Office of Management, invites comments on the proposed information collection requests as required by the Paperwork Reduction Act of 1995.

DATES: Interested persons are invited to submit comments on or before June 30, 2006.

SUPPLEMENTARY INFORMATION: Section 3506 of the Paperwork Reduction Act of 1995 (44 U.S.C. Chapter 35) requires that the Office of Management and Budget (OMB) provide interested Federal agencies and the public an early opportunity to comment on information collection requests. OMB may amend or waive the requirement for public consultation to the extent that public participation in the approval process would defeat the purpose of the information collection, violate State or Federal law, or substantially interfere with any agency's ability to perform its statutory obligations. The Director, Regulatory Information Management Services, Office of Management, publishes that notice containing proposed information collection requests prior to submission of these requests to OMB. Each proposed information collection, grouped by office, contains the following: (1) Type of review requested, e.g. new, revision, extension, existing or reinstatement; (2) Title; (3) Summary of the collection; (4) Description of the need for, and proposed use of, the information; (5) Respondents and frequency of collection; and (6) Reporting and/or Recordkeeping burden. OMB invites public comment.

The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology.

Dated: April 25, 2006.
Jeanne Van Vlandren,
Director, Regulatory Information Management Services, Office of Management.

Office of Planning, Evaluation, and Policy Development.

Type of Review: Regular.

Title: Annual Mandatory Collection of Elementary and Secondary Education Data for the Education Data Exchange Network (EDEN).

Frequency: Annually.

Affected Public: State, Local, or Tribal Gov't, SEAs or LEAs.

Reporting and Recordkeeping Hour Burden:

Responses: 6,052.

Burden Hours: 476,234.

Abstract: The Education Data Exchange Network (EDEN) is in the implementation phase of a multiple year effort to consolidate the collection of education information about States, Districts, and Schools in a way that improves data quality and reduces paperwork burden for all of the national education partners. To minimize the burden on the data providers, EDEN seeks the transfer of the proposed data as soon as it has been processed for State, District, and School use. These data will then be stored in EDEN and accessed by federal education program managers and analysts as needed to make program management decisions. This process will eliminate redundant data collections while providing for the timeliness of data submission and use.

Additional Information: The Department of Education (ED) is specifically requesting the data providers in each the State Education Agency (SEA) to review the proposed data elements to determine which of these data can be provided for the upcoming 2006-2007 school year and which data would be available in later years (2007-2008 or 2008-2009) and which data, if any, is never expected to be available from the SEA. If information for a data group is not available, please provide information beyond the fact that it is not available. Are there specific impediments to providing this data that you can describe? Is the definition for the data group unclear or ambiguous? Do the requested code sets not align with the way your state collects the data? This is very important information because ED intends to make the collection of these data mandatory. ED also seeks to know if the SEA data definitions are consistent and compatible with the EDEN definitions and accurately reflect the way data is stored and used for education by the States, Districts, and Schools. The answers to these questions by the data providers will influence the timing and content of the final EDEN proposal for the collection of this elementary and secondary data. In addition to overall public comments, ED would also like state education data providers to consider and respond to a number of specific questions that were developed during the recent data definition cycle for EDEN 2006-07 data. While most of these questions address the ability of states to provide information, some speak to the potential burden on states associated with overall changes in EDEN. When responding to these questions, please include the question number in your response.

1. Some of the EDEN data groups require additional information in order to interpret it properly; this is loosely described as metadata. For example, state proficiency levels and the levels that make up proficient and higher differ from one state to the next. Similarly, there are numerous data groups that collect information on state-defined items such as truants, persistently dangerous schools, and definition of school year. For all of these examples, additional information is needed in order to fully understand the reported data as well as to understand whether comparisons across the state are (or are not) appropriate. We are currently considering several ways to collect this information including web-based forms and a separate state-level submission file. What would be the most convenient way for your state to initially provide and subsequently update this information?

2. As EDEN matures, we are weighing the costs/benefits of standardizing the naming conventions of the data groups in order to align them more closely with the Federal Enterprise Architecture. We anticipate this effort would result in changes to approximately ⅓ of data group names and we would provide a crosswalk between the old name and the new name of each data group. The numbers assigned to the data groups would not change. What impact would data group name changes have on the burden associated with producing and submitting EDEN data files in your state? If we do elect to make these changes, what tools can ED provide to you to lessen your paperwork burden?

3. For the 2006-07 EDEN data set, we added a new topic area: Finance. This change was based on an understanding that in many states, data for files that include financial information come from a source that is separate from the rest of the EDEN data files. So far, we have moved the following data groups to this new topic area: 574—Federal Funding Allocation Table, 614—REAP Alternative Funding Indicator, 615—RLIS Program Table, 616—Transfer Funds Indicator, plus the two new data groups: Funds Spent on Supplemental Services and Funds Spent on School Choice. Is this conceptual change helpful in your state? Are there other data groups that you recommend that we move to this new topic area?

4. As part of the merge between NCES' Common Core of Data (CCD) and EDEN, we would like to modify the way the CCD ID code for schools and districts are submitted in EDEN data files. The CCD ID code is made up of 3 components (a 2 digit FIPS code, a 5 digit district ID code, and a 5 digit school ID code). CCD collects all 3 of these components separately meaning that for schools, there are 3 ID codes that, together, make a unique identifier. EDEN collects a single 7 digit CCD District ID (FIPS thru District) and a single 12 digit CCD school ID (FIPS thru District thru School). What impact would there be on your state's ability to provide EDEN data files if EDEN changed to the CCD methodology for NCES IDs?

5. For Magnet School Status (at the school level) CCD collects only (1) Yes and (2) No. EDEN is set up to collect 4 categories of information regarding Magnet Schools: (1) Magnet All Students, (2) Magnet Not All Students, (3) Not Magnet, and (4) Not Collected by State. At what level of detail does your state collect information on Magnet Schools? What is the burden to your state to provide the data EDEN is requesting?

6. OSEP has historically collected placement information for school age children by age ranges (6-11, 12-17, and 18-21). For 2006-07, USED is proposing to collect this information using discrete ages (instead of the previously used age ranges). This change would take place in EDEN data group #74, Children with Disabilities (IDEA), in the category set that now contains Educational Environment (IDEA), Disability Category (IDEA), and Age Group (Placement). The comparable data group for early childhood (Data Group #613) already collects placement information by discrete age. How does this change affect your state's reporting ability and burden?

7. How do states track dropouts within each state? Would states be able to report dropout data by age or is this information only available by grade?

8. EDEN currently collects dropout data by grade for students in grades 7-12 but will be adding ungraded as an option for the 2006-07 reporting year. Does your state have a significant number of dropouts in grades other than 7-12 (e.g., a student in grade 6 who reaches the age where dropping out is an option)? Can you report this count as a single number (e.g., total dropouts below 7th grade)?

9. Please examine the two new data groups—Funds Spent on Supplemental Services and Funds Spent on School Choice. What information does your state ask LEAs to report on this subject? Can you provide the information requested? If you cannot provide data for these new data groups for 2006-07, when will you be able to provide this data?

Requests for copies of the proposed information collection request may be accessed from http://edicsweb.ed.gov, by selecting the “Browse Pending Collections” link and by clicking on link number 03017. When you access the information collection, click on “Download Attachments” to view. Written requests for information should be addressed to U.S. Department of Education, 400 Maryland Avenue, SW., Potomac Center, 9th Floor, Washington, DC 20202-4700. Requests may also be electronically mailed to IC_DocketMgr@ed.gov or faxed to 202-245-6623. Please specify the complete title of the information collection when making your request.

Comments regarding burden and/or the collection activity requirements should be electronically mailed to IC_DocketMgr@ed.gov. Individuals who use a telecommunications device for the deaf (TDD) may call the Federal Information Relay Service (FIRS) at 1-800-877-8339.

[FR Doc. E6-6526 Filed 4-28-06; 8:45 am]

BILLING CODE 4000-01-P